DEPARTMENT OF ENERGY

President's Council of Advisors on Science and Technology Open Teleconference; Cancellation

AGENCY: Department of Energy.

ACTION: Notice of cancellation of open teleconference.

SUMMARY: On May 23, 2016, the Department of Energy (DOE) published a notice of open meeting announcing a teleconference on June 6, 2016, of the President's Council of Advisors on Science and Technology. This notice announces the cancellation of this meeting.

DATES: The teleconference scheduled for June 6, 2016, announced in the May 23, 2016, issue of the Federal Register (81 FR 32319), is cancelled.

FOR FURTHER INFORMATION CONTACT: Jennifer Michael at Jennifer_L_Michael@ostp.eop.gov or (202) 456-4444.

Issued at Washington, DC, on May 27, 2016.
LaTanya R. Butler,
Deputy Committee Management Officer.

[FR Doc. 2016-13300 Filed 6-3-16; 8:45 am]

BILLING CODE 6450-01-P